DEPARTMENT OF COMMERCE

National Oceanic and Atmospheric Administration

[I.D. 051204B]

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its 123rd meeting to consider and take actions on fishery management issues in the Western Pacific Region. Meetings of the Council's Scientific and Statistical Committee (SSC) and Advisory Panels (AP) will also be held.

DATES: The 86th SSC meeting will be held on June 8 - 10, 2004. The AP meetings and the 123rd Council meeting and public hearings will be held on June 21-24, 2004. For specific times, see SUPPLEMENTARY INFORMATION.

ADDRESSES: The 86th SSC meeting will be held at the Western Pacific Fishery Council Conference room, 1164 Bishop Street, Suite 1400, Honolulu, HI. The Advisory Panel (AP) meetings and 123rd Council meeting and public hearings will be held at the Ala Moana Hotel, 410 Atkinson Drive, Honolulu, HI; telephone:808-955-4811.

FOR FURTHER INFORMATION CONTACT: Kitty M. Simonds, Executive Director; telephone: (808)522-8220.

SUPPLEMENTARY INFORMATION: In addition to the agenda items listed below, the SSC, AP, and Council will hear recommendations from other Council advisory groups. Public comment periods will be provided throughout the agenda. The order in which agenda items are addressed may change. The SSC, AP and Council will meet as late as necessary to complete scheduled business.

Schedule and Agenda for SSC

9 a.m. Tuesday, June 8, 2004

1. Introductions

2. Approval of draft agenda and assignment of rapporteurs

3. Approval of the minutes of the 85th meeting

4. Ocean Commissions Report

5. Pelagic fisheries

A. American Samoa and Hawaii longline fisheries

a. Quarterly reports

B. Update on turtle management

C. Seabird measures

a. Update on seabird measures

b. U.S. Fish and Wildlife Service (USFWS) Shorttail Albatross Biological Opinion (BIOP)

D. Shark management

a. Alternatives for shark management

b. Shark viewing and feeding tours

E. Pelagic squid management

F. National standard 1 revisions

G. Pelagics stock assessment research and review

H. Options for yellowfin and bigeye management in the Pacific

I. International meetings

a. Prepatory Conference VI-Bali, Indonesia

b. Indian Ocean Southeast Asian Sea Turtle Memorandum of Understanding Meeting-Bangkok, Thailand

c. 17th Scientific Committee on Tuna and Billfish

d. International Symposium on Ecosystem Indicators

6. Protected species

A. Sea turtles

a. Second Cooperative Research and Management Workshop

b. Baja meeting

c. 24th Sea Turtle Symposium

d. Sea turtle models

e. Transferred effects

B. Marine mammals

8:30 a.m. Wednesday, June 9, 2004

7. Ecosystem and habitat

A. Archipelagic fishery ecosystem plans

B. Update on annual report development

8. Bottomfish

A. Commonwealth of the Northern Mariana Islands (CNMI) bottomfish management

9. Crustaceans fisheries (Northwestern Hawaiian Islands (NWHI) lobsters)

A. Update on MULTIFAN-CL lobster model

B. 2004 NWHI cruise and charter plans

C. MHI Lobster stock assessment

D. Update on annual report development

8:30 a.m. Thursday, June 10, 2004

10. Precious corals

A. Current precious coral research

B. Update on annual report development

11. Other business

A. Stock assessment planning

B. 87th SSC meeting

12. Summary of SSC recommendations to the Council

APs

The Commercial, Recreational, Subsistence/Indigenous and Ecosystem and Habitat sub-panels will meet jointly on Monday, June 21, 2004, from 8 a.m. to 12 noon. Panels will meet individually on Monday, June 21, 2004, from 1 p.m. to 6 p.m. Panels will meet in a plenary session from 8 a.m. to 12 noon on Tuesday, June 22, 2004, to summarize and review recommendations. The agenda for the APs meetings will include the items listed below. Public comment periods will be provided throughout the agenda. The order in which agenda items are addressed may change. The APs will meet as late as necessary to complete scheduled business.

8 a.m. Monday, June 21, 2004

Plenary Session

1. Welcome and general housekeeping remarks

2. Overview of pelagic/international management actions

3. Overview of bottomfish management actions

4. Overview of coral reef ecosystems management actions

5. Overview of precious coral and crustacean management actions

6. Overview of indigenous issues

7. Program planning items

A. Archipelagic fishery ecosystem plans

B. 3 year program plan

1 p.m.-6 p.m. Monday, June 21, 2004

Commercial, recreational, subsistence/indigenous and ecosystem/habitat panels will meet separately to discuss the following items:

1. CNMI bottomfish management

2. Pelagic management measures

A. Sea turtles

B. Seabirds

C. Electronic logbooks

D. Squid

3. 2003 Pelagics Annual Report

4. Recreational data

A. NMFS Recreational Fisheries Strategic Plan

B. Guam Voluntary Community Monitoring Program

C. Recreational licenses and reporting

5. Status of NWHI sanctuary designation process

6. Archipelagic fishery ecosystem plans

7. Community Demonstration Project Program

A. Status of first solicitation

B. Status of second solicitation

8. Coral Reef Ecosystems Fishery Management Plan

A. Summary of FMP measures

B. Annual report

9. Overview of Coral Reef Fish Stock Assessment Workshop and recommendations

10. Status of NWHI Sanctuary designation process

11. Main Hawaiian Islands (MHI) lobster assessment

8 a.m.-12 noon, Tuesday, June 22

Plenary session

1. Review and discussion of sub-panels' recommendations

A. Commercial panel

B. Recreational panel

C. Subsistence panel

D. Ecosystem panel

2. Other business

Schedule and Agenda for Council Standing Committee Meetings

Monday, June 21, 2004

1. 2 p.m.-4 p.m. Executive/Budget &Program Standing Committee

Tuesday, June 22, 2004

1. 8 a.m.-10 a.m. Enforcement/vessel monitoring system (VMS) Standing Committee

2. 8 a.m.-10 a.m. Ecosystem & Habitat Standing Committee

Schedule and Agenda for Public Hearings

Tuesday, June 22, 2004

1 p.m.-6 p.m. Proposed regulatory amendment (final action) under all five western Pacific fishery management plans that would allow fishermen the option of using NMFS approved electronic logbooks instead of paper logbooks, the option of submitting the electronic logbook via non-paper media (i.e. diskette, CD, memory stick, etc.) and the option of transmitting the electronic logbook information via e-mail or satellite transmission.

Wednesday June 23, 2004

5:30 p.m. Final action on a regulatory amendment to establish additional measures to conserve sea turtles and initial action on a regulatory amendment under the Fishery Management Plan for the Pelagic Fisheries of the Western Pacific Region (Pelagics FMP) to revise the requirements for seabird mitigation when fishing north of 23° N′ lat. to include side setting of longline gear as an alternative to one or more of the current suite of seabird mitigation measures.

Thursday, June 24, 2004

9 a.m. Preliminary options to manage the bottomfish fishery around the CNMI. The agenda during the full Council meeting will include the items listed here.

For more information on public hearing items, see Background Information later in this document.

Schedule and Agenda for Council Meeting

1 p.m.-6 p.m. Tuesday, June 22, 2004

1. Introductions

2. Approval of agenda

3. Approval of 122nd meeting minutes

4. Island reports

A. American Samoa

B. Guam

C. Hawaii

D. CNMI

5. Reports from fishery agencies and organizations

A. Department of Commerce

a. NMFS

i. Pacific Islands Regional Office

ii. Pacific Islands Fisheries Science Center

b. National Marine Sanctuary Program

i. Pacific Sanctuaries update

ii. HI Humpback Whale National Marine Sanctuary update

c. NOAA General Counsel SWR

B. Department of Interior-USFWS

C. State Department

D. Ocean Commission Report

E. Report from Non-governmental organizations

6. Enforcement/VMS

A. USCG activities

B. NMFS activities

C. Enforcement activities of local agencies

D. Status of violations

E. Electronic logbooks regulatory amendment (final action)

8 a.m.-6 p.m. Wednesday, June 23, 2004

7. Observer programs

A. Report on the NWHI bottomfish observer program

B. Report on the native observer program

C. Report on the Hawaii longline observer program

8. Precious corals fisheries

A. Current precious coral research

B. Update on annual report development

C. 2004 Plan team report and recommendations

9. Pelagic fisheries

A. American Samoa & Hawaii longline fisheries

a. Quarterly reports

b. Options for yellowfin and bigeye management in the Pacific

c. New paperwork requirements for imports & exports

B. Seabird measures

a. Update on seabird measures

b. USFWS, shorttail albatross BiOp

c. Revision to seabird mitigation measures (initial action)

C. Sea turtles

a. Update on current sea turtle measures

i. Review of final rule published April 2, 2004

ii. Update on implementation of final rule

iii. Potential changes in implementation for 2005

b. Additional Measures for sea turtles (final action)

c. Second Cooperative Research and Management Workshop

d. Baja meeting

e. Sea turtle models

f. Transferred market effects

g. Hawaiian green turtle recovery

D. Marine mammals

a. Marine mammal workshop

b. Update on new marine mammal measures

E. Shark management

a. Alternatives for shark management

b. Shark viewing and feeding tours

F. Pelagic squid management (initial action)

G. International meetings

a. PrepCon VI-Bali, Indonesia

b. IOSEA Meeting-Bangkok, Thailand

c. Inter-American Tropical Tuna Commission meeting-Lima, Peru

8 a.m. 12 noon Thursday, June 24, 2004

10. Bottomfish fisheries

A. CNMI bottomfish management measures (initial action)

B. 2004 Plan Team report and recommendations

C. SSC recommendations

11. Crustaceans fisheries

A. Update on MULTIFAN-CL lobster model

B. 2004 NWHI cruise and charter plans

C. (MHI) lobster stock assessment

D. Update on annual report development

12. Ecosystems and habitat

A. Archipelagic fishery ecosystem plans

B. Ulua tagging program

C Update on annual report development

13. Fishery rights of indigenous peoples

A. Community Demonstration Projects Program (2nd Solicitation)

B. Update on Guam Community Development Plan

C. CNMI Conservation Plan (final action)

D.Workshop for Coastal Zone Management-Fiji

1:30 p.m.- 6 p.m., Thursday, June 24, 2004

14. Program planning

A Chair and Executive Directors' Meeting

B. Regulatory streamlining

C. Update on Federal and local fishery-related legislation

D Status of Hawaii $5 million disaster funds for Federal fisheries

E.Recreational fisheries data and management

F.WPacFIN

G.Revisions to national standard 1

H.Stock Assessment Planning

I.NEPA Activities

1.Archipelagic management

2.Squid &seabird measures

3.Sharks, PFADs, recreational fishing

J. Programmatic grants report

15.Administrative matters

A.Financial reports

B. Administrative report

C. Meetings and workshops

D. Advisory group changes

16. Other business

Background Information

1. Public Hearing on Electronic Logbook Amendment (action item)

The Council will consider final action on a proposed regulatory amendment under all five western Pacific fishery management plans that would allow fishermen the option of using NMFS approved electronic logbook books instead of the Federal paper logbook forms that are now required. In its initial action, the Council recognized that the availability and capability of personal computers has increased to the point where using them to record fisheries dependent information can benefit Western Pacific fishery participants and NMFS. The benefits of electronic logbook forms include significant time savings for fishery participants, increased data accuracy, and time and money savings for NMFS.

The alternatives considered in the draft regulatory amendment range from maintaining the current regulations, to requiring the use electronic logbook forms and requiring their transmission via e-mail or satellite systems. In recognition of the fact that not all fishery participants may have technology or desire to use electronic logbooks, the preferred alternative would amend the five Fishery Management Plans of the Western Pacific to allow the optional use of electronic logbook forms, and the submission of such forms on non-paper media or transmitted via e-mail or satellite systems. This option would be available to current participants in those fisheries with Federal reporting requirements (meaning fisheries in which participants submit Federal logbooks directly to NMFS) as well as future participants in fisheries that may become subject to Federal reporting.

2. Regulatory Amendment to Establish Additional Measures to Conserve Sea Turtles (action item)

At its 121st meeting, the Council took action on long term measures to implement new technology to reduce and mitigate turtle-longline interactions in the Hawaii longline fishery. The Council took final action to re-establish a limited (2,120 sets annually) Hawaii-based shallow-set fishery using new technologies (circle hooks, mackerel-type bait, and dehookers) to reduce and mitigate sea turtle interactions. However, several additional issues remained unresolved and were considered by the Council at its 122nd meeting in March 2004. These issues arose because on April 1, 2004, a Court order vacated the sea turtle conservation regulations promulgated in 2001. The Council's management regime for the Hawaii-based pelagic longline fishery was to be implemented on that date, however existing measures for other Western Pacific pelagic fisheries were not replaced and required further Council action. Accordingly, at its 122nd meeting, the Council took initial action and recommended that the following alternatives be adopted in a regulatory amendment containing additional measures to conserve sea turtles:

1. To require annual attendance at a NMFS Protected Species Workshop by operators and owners of general longline vessels (vessels registered to general longline permits and those that in the future will be registered to American Samoa limited access longline permits) - with consideration of mechanisms for remote attendance.

2. To require general longline vessels to carry and use dip nets, line clippers, and bolt cutters and follow turtle resuscitation and release guidelines (note, with an exemption from carrying a dipnet or long-handled line clipper for small longline vessels with freeboard ≤3 ft (.9144 m)).

3. To require non-longline pelagic vessels targeting pacific management unit species with hooks to remove trailing gear from accidently caught turtles and to follow turtle resuscitation and release guidelines, wherever they fish.

4. To require longline vessels registered for use with general longline permits to use circle hooks and mackerel-type bait and dehookers when shallow-setting north of the equator.

At the 123rd meeting the Council will review the regulatory amendment document, and may take final action with a recommendation that the regulatory amendment document be finalized and transmitted to NMFS for review and approval.

3. Consideration of Longline Gear Side-Setting as an Option (action item)

In November 2000, the USFWS issued a BiOp which contained reasonable and prudent measures for minimizing interactions with the endangered shorttail albatross. The BiOp recognized that the Hawaii-based longline fishery at that time comprised two segments, namely a deep-setting tuna-targeting segment, and a shallow-setting swordfish targeting segment. All longline vessels fishing above 23° N′ lat. were required to use thawed blue dyed bait and employ strategic offal discards when setting and hauling the longline. Vessels setting deep to catch tuna were also required to use a line setting machine with weighted branch lines. Vessels setting shallow to target swordfish were required to begin setting the longline at least 1 hour after local sunset and complete the setting process by local sunrise, using only the minimum vessel lights necessary. The Council recommended a regulatory amendment to require these measures and a final rule was published in May 2002. However, the final rule did not include a requirement for night setting due to an earlier closure of the swordfish segment of the Hawaii-based fishery in early 2001, under separate rule making in compliance with a March 2001, BiOp issued by NMFS regarding sea turtles. The Council recently completed a regulatory that re-opened the swordfish-targeting segment of the Hawaii longline fishery in April 2004, which included the night setting requirement. During 2002 and 2003, additional seabird mitigation research field tests were conducted with underwater setting chutes, blue dyed bait and side setting. Side setting, as the term implies, means setting the longline from the side, rather than from the stern of the vessel. While all measures worked well, side setting was the only method which virtually reduced the interaction rate between longline and seabirds to zero. However, side setting is not included within the suite of measures required in the USFWS BiOp, nor in the regulations for the Hawaii-based fishery. At its 122nd meeting, the Council, discussed the potential for amending its requirements for seabird mitigation above 23° N′ lat. to include side setting, an underwater setting chute or towed deterrent as measures that fishermen may elect to use in place of blue dyed bait, strategic offal discards and night setting. The Council directed the staff to prepare a regulatory amendment to the Pelagics FMP that examines a range of alternatives for seabird mitigation which included the choices for longline fishermen of either the use of side setting, use of an underwater setting chute, or other acceptable measures. At its 123rd meeting, the Council may take initial action to select a preferred alternative and direct staff to complete a regulatory amendment in order to take final action at its next meeting.

4. Preliminary CNMI Bottomfish Management Options (initial action)

A public hearing will be held to solicit comments on preliminary alternatives to manage the bottomfish fishery around the CNMI. Based on comments received during public scoping meetings held in CNMI, the Council developed preliminary options including limiting the harvest of bottomfish, reporting requirements, establishing area closures, gear and vessel restrictions, and other control measures expressed by the public during the scoping meetings. At its 122nd meeting, the Council endorsed the range of options and asked that alternatives be further developed including an analysis of each option. At the 123rd meeting, the Council may take initial action on a preferred alternative and direct staff to develop an amendment to the Bottomfish FMP that may be considered for final action at the 124th meeting in October 2004.

Although non-emergency issues not contained in this agenda may come before the Council for discussion, those issues may not be the subject of formal Council action during this meeting. Council action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: May 17, 2004.
Galen R. Tromble,
Acting Director, Office of Sustainable Fisheries, National Marine Fisheries Service.

[FR Doc. 04-11580 Filed 5-20-04; 8:45 am]

BILLING CODE 3510-22-S